DEPARTMENT OF TRANSPORTATION

Federal Railroad Administration

[Docket Number FRA-1999-6254]

Petition for Waiver of Compliance

Under part 211 of title 49 Code of Federal Regulations (CFR), this document provides the public notice that on July 15, 2020, the Santa Clara Valley Transportation Authority (SCVTA) petitioned the Federal Railroad Administration (FRA) to renew a waiver of compliance from certain provisions of the Federal railroad safety regulations contained at 49 CFR parts 214, 217, 219, 220, 221, 223, 225, 228, 229, 231, 233, 236, 238, and 239. FRA assigned the petition Docket Number FRA-1999-6254.

In its petition, SCVTA seeks to extend the terms and conditions of its shared use waiver, originally granted by FRA's Railroad Safety Board on September 26, 2005; modified in 2008; extended in 2011, 2013, 2018, and 2019. Specifically, SCVTA requests the following relief, for a period of five years: partial relief from part 220, Railroad Communications, for SCVTA employees, except its dispatchers; partial relief from part 225, Railroad Accidents/Incident Reports, only for employee injuries; and full relief from some parts of multiple regulations (e.g., 49 CFR parts 217, 219, 221, 229, 238, and 239).

This shared use waiver is for the continued operation of the SCVTA rail fixed guideway transit system with the Union Pacific Railroad (UPRR) in the Vasona Corridor. SCVTA shares this corridor with UPRR, as they operate in parallel for 5 miles of the existing 15-mile-long UPRR Vasona Industrial Lead. It serves the cities of southwest San Jose and Campbell, California. Because SCVTA owns this 5-mile-long portion of the shared corridor, SCVTA and UPRR have executed an Operations and Maintenance Agreement, which includes an exclusive operating easement, allowing UPRR to fulfill its obligations as a common carrier of freight by continuing its existing freight operations within the purchased corridor. This agreement requires SCVTA to inspect, maintain, and repair all tracks, signal systems, and automatic warning devices along the freight track within that portion of the corridor shared with SCVTA tracks.

SCVTA explains it has worked diligently with FRA to rectify compliance concerns found during the 2018-2019 waiver relief period, and seeks a full five-year extension of the regulations as previously granted in this docket.

A copy of the petition, as well as any written communications concerning the petition, is available for review online at www.regulations.gov.

Interested parties are invited to participate in these proceedings by submitting written views, data, or comments. If any interested parties desire an opportunity for oral comment and a public hearing, they should notify FRA, in writing, before the end of the comment period and specify the basis for their request.

All communications concerning these proceedings should identify the appropriate docket number and may be submitted by any of the following methods:

• website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by September 10, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety,Chief Safety Officer.

[FR Doc. 2020-16229 Filed 7-24-20; 8:45 am]

BILLING CODE 4910-06-P